DEPARTMENT OF LABOR

Employment and Training Administration

[TA-W-72,379]

Premier Manufacturing Support Services, Inc., Including On-Site Leased Workers From Randstat, Spring Hill, TN; Amended Certification Regarding Eligibility To Apply for Worker Adjustment Assistance

In accordance with Section 223 of the Trade Act of 1974, as amended (“Act”), 19 U.S.C. 2273, the Department of Labor issued a Certification of Eligibility to Apply for Worker Adjustment Assistance on March 12, 2010, applicable to workers of Premier Manufacturing Support Services, Inc., Spring Hill, Tennessee. The notice was published in the Federal Register on April 23, 2010 (75 FR 21355).

At the request of a company official, the Department reviewed the certification for workers of the subject firm. The workers are engaged in janitorial, maintenance, hazardous waste disposal, grounds keeping, and shipping services.

The company reports that workers leased from Randstat were employed on-site at the Spring Hill, Tennessee location of Premier Manufacturing Support Services, Inc. The Department has determined that these workers were sufficiently under the control of the subject firm to be considered leased workers.

Based on these findings, the Department is amending this certification to include workers leased from Randstat working on-site at the Spring Hill, Tennessee location of Heritage Aviation.

The amended notice applicable to TA-W-72,379 is hereby issued as follows:

All workers of Premier Manufacturing Support Services, Inc., including on-site leased workers from Randstat, Spring Hill, Tennessee, who became totally or partially separated from employment on or after June 13, 2009, through March 12, 2012, and all workers in the group threatened with total or partial separation from employment on the date of certification through two years from the date of certification, are eligible to apply for adjustment assistance under Chapter 2 of Title II of the Trade Act of 1974, as amended.

Signed at Washington, DC, this 16th day of July 2010.
Michael W. Jaffe,
Certifying Officer, Division of Trade Adjustment Assistance.

[FR Doc. 2010-18836 Filed 7-30-10; 8:45 am]

BILLING CODE 4510-FN-P